ENVIRONMENTAL PROTECTION AGENCY

40 CFR Parts 116 and 302

[EPA-HQ-SFUND-2011-0565; FRL-9460-9]

Designation of Hazardous Substances; Designation, Reportable Quantities, and Notification

AGENCY: Environmental Protection Agency (EPA).

ACTION: Final rule; technical amendment.

SUMMARY: EPA is issuing a technical amendment to correct, by removal of three Chemical Abstracts Service Registry Numbers that were erroneously included in the list of hazardous substances under the Comprehensive Environmental Response, Compensation, and Liability Act.

DATES: This final rule is effective on September 8, 2011.

ADDRESSES: EPA has established a docket for this action under Docket ID No. EPA-HQ-SFUND-2011-0565. All documents in the docket are listed on the http://www.regulations.gov Web site. Although listed in the index, some information is not publicly available, e.g., CBI or other information whose disclosure is restricted by statute. Certain other material, such as copyrighted material, is not placed on the Internet and will be publicly available only in hard copy form. Publicly available docket materials are available either electronically through http://www.regulations.gov or in hard copy at the Superfund Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Superfund Docket is (202) 566-0276.

FOR FURTHER INFORMATION CONTACT: Lynn Beasley, Regulation and Policy Development Division, Office of Emergency Management (5104A), Environmental Protection Agency, 1200 Pennsylvania Ave., NW., Washington, DC 20460; telephone number: (202) 564-1965; fax number: (202) 564-2625; e-mail address: beasley.lynn@epa.gov.

SUPPLEMENTARY INFORMATION:

I. General Information

A. Does this action apply to me?

Type of entity | Examples of affected entities
Federal Agencies | National Response Center and any Federal agency that may release or respond to releases of hazardous substances.
State and Local Governments | State Emergency Response Commissions, and Local Emergency Planning Committees.
Responsible Parties | Those entities responsible for the release of a hazardous substance from a vessel or facility. Those entities with an interest in the substances incorrectly identified by their Chemical Abstracts Service Registry Number(s) as a hazardous substance.

This table is not intended to be exhaustive, but rather provides a guide for readers regarding entities likely to be regulated by this action. This table lists the types of entities that EPA is now aware could potentially be regulated by this action. Other types of entities not listed in the table could also be regulated. If you have questions regarding the applicability of this action to a particular entity, consult the person listed in the preceding FOR FURTHER INFORMATION CONTACT section.

B. How can I get copies of this document and other related information?

The current information is as follows:

• Docket ID No. EPA-HQ-SFUND-2011-0565.

• Federal eRulemaking Portal: http://www.regulations.gov.

II. What does this correction do?

This technical amendment is a correction to remove three Chemical Abstracts Service (CAS) Registry Numbers that were erroneously identified with Sodium Phosphate, tribasic, from the following Title 40 of the Code of Federal Regulations: Table 116.4 A—List of Hazardous Substances; Table 116.4 B—List of Hazardous Substances by CAS Number; Table 302.4—List of Hazardous Substances and Reportable Quantities; and Appendix A to section 302.4—Sequential CAS Registry Number List of CERCLA Hazardous Substances. The three correct Chemical Abstracts Service Registry Numbers remain on these tables.

On March 13, 1978, EPA issued a final rule in the Federal Register that designated hazardous substances under the authority of section 311(b)(2)(A) of the Federal Water Pollution Control Act (aka, Clean Water Act or CWA). On April 4, 1985, EPA issued a final rule in the Federal Register that designated hazardous substances and adjusted the reportable quantities under the authority of section 102(a) of the Comprehensive Environmental Response, Compensation, and Liability Act (CERCLA). In both of these rules, Sodium Phosphate, tribasic was designated as a hazardous substance. For the convenience of the user, hazardous substances are presented in Tables and an Appendix that include the CAS Registry Number for each hazardous substance. In some cases, a chemical name may have more than one CAS Registry Number associated with it due to the chemical's various forms; however, CAS Registry Numbers are unique to a chemical or substance.¹ That is, two substances or forms of a substance do not have the same CAS Registry Number. Sodium Phosphate, tribasic has three CAS Registry Numbers associated with its chemical name. Those CAS Registry Numbers are 7601-54-9, 10101-89-0, and 13061-89-4. The first, 7601-54-9 is associated with the sodium salt of Sodium Phosphate, tribasic. The second, 10101-89-0 is associated with the dodecahydrate (i.e., 12 H2O) form of Sodium Phosphate, tribasic. And the third, 10361-89-4 is associated with the decahydrate (i.e., 10 H2O) form of Sodium Phosphate, tribasic. Those CAS Registry Numbers will continue to appear on the above cited tables and lists in Title 40 of the Code of Federal Regulations.

¹ Each CAS Registry Number (often referred to as a CAS Number): Is a unique numeric identifier, designates only one substance, and has no chemical significance. From the CAS Web site: http://www.cas.org/expertise/cascontent/registry/regsys.html.

A petition from the International Food Additives Counsel,² dated March 14, 2007, brought to the attention of the Agency that several CAS Registry Numbers were erroneously identified with the designated hazardous substance, Sodium Phosphate, tribasic. The erroneous CAS Registry Numbers in fact belong to three non-hazardous chemicals; Sodium Trimetaphosphate (STMP), Sodium Tripolyphosphate (STPP), and Sodium Hexametaphosphate (SHMP). The erroneous CAS Registry Numbers associated with Sodium Phosphate, tribasic have caused, and will continue to cause regulatory confusion until they are removed from the effected Tables and Appendix. As such, EPA is removing the three CAS Registry Numbers that are erroneously associated with Sodium Phosphate, tribasic and leaving the correct CAS Registry Numbers in each of the effected Tables and Appendix.

² Petition for Rulemaking Correction, CAS Numbers in Title 40, Code of Federal Regulations, Section 302.4, Table 302.4—List of Hazardous Substances and Reportable Quantities, Appendix A to Section 302.4—Sequential CAS Registry Number List of CERCLA Hazardous Substances, and Section 116.4 Designation of Hazardous Substances.

III. Why is this correction issued as a final rule?

Section 553 of the Administrative Procedure Act (APA), 5 U.S.C. 553(b)(B), provides that, when an Agency for good cause finds that notice and public procedure are impracticable, unnecessary or contrary to the public interest, the agency may issue a final rule without providing notice and an opportunity for public comment. EPA has determined that there is good cause for making this technical amendment final without prior proposal and opportunity for comment, because EPA is merely correcting information that is confusing to the public because it provides erroneous information about a hazardous substance. Three of the six CAS Registry Numbers identified with the hazardous substance, Sodium Phosphate, tribasic in fact belong to three non-hazardous substances. CAS Registry Numbers are provided for the convenience of the public to aid in the identification of the designated hazardous substances. The association of the three CAS Registry Numbers that belong to three non-hazardous substances with Sodium Phosphate, tribasic was an error. It is important that the public has accurate and correct regulatory information. EPA finds that this constitutes good cause under 5 U.S.C. 553(b)(B).

IV. Do any of the statutory and Executive Order reviews apply to this action?

Under Executive Order 12866 (58 FR 51735, October 4, 1993), this action is not a “significant regulatory action” and is therefore not subject to OMB review. Because this action is not subject to notice and comment requirements under the Administrative Procedures Act or any other statute, it is not subject to the Regulatory Flexibility Act (5 U.S.C. 601 et seq.) or Sections 202 and 205 of the Unfunded Mandates Reform Act of 1999 (UMRA) (Pub. L. 104-4). In addition, this action does not significantly or uniquely affect small governments. This action does not create new binding legal requirements that substantially and directly affect Tribes under Executive Order 13175 (63 FR 67249, November 9, 2000). This action does not have significant Federalism implications under Executive Order 13132 (64 FR 43255, August 10, 1999). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994). This action does not involve technical standards; thus, the requirements of Section 12(d) of the National Technology Transfer and Advancement Act of 1995 (15 U.S.C. 272 note) do not apply.

A. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefore, and established an effective date of September 8, 2011. EPA will submit a report containing this rule and other required information to the U.S. Senate, the U.S. House of Representatives, and the Comptroller General of the United States prior to publication of the rule in the Federal Register. This action is not a “major rule” as defined by 5 U.S.C. 804(2).

List of Subjects

40 CFR Part 116

Environmental protection, Hazardous substances, Reporting and recordkeeping requirements, Water pollution control.

40 CFR Part 302

Environmental protection, Air pollution control, Chemicals, Hazardous substances, Hazardous waste, Intergovernmental relations, Natural resources, Reporting and recordkeeping requirements, Superfund, Water pollution control, Water supply.

Dated: August 30, 2011.
Mathy Stanislaus,
Assistant Administrator, Office of Solid Waste and Emergency Response.

For the reasons set out above, title 40, chapter I of the Code of Federal Regulations is amended as follows:

PART 116—DESIGNATION OF HAZARDOUS SUBSTANCES

1. The authority citation for part 116 continues to read as follows:

Authority: Secs. 311(b)(2)(A) and 501(a), Federal Water Pollution Control Act (33 U.S.C. 1251 et seq.)

2. In § 116.4:

a. Table 116.4A—List of Hazardous Substances is amended by revising the entry for Sodium phosphate, tribasic; and

b. Table 116.4B—List of Hazardous Substances by CAS Number is amended by removing the following entries: 7758294, 7785844, and 10124568.

The revision reads as follows:

§ 116.4 Designation of hazardous substances.

* * * * *

Table 116.4A—List of Hazardous Substances
Common name | CAS No. | Synonyms | Isomers | CAS No.
* * * * * * *
Sodium phosphate, tribasic | 7601549
| 10101890
| 10361894
* * * * * * *

* * * * *

PART 302—DESIGNATION, REPORTABLE QUANTITIES, AND NOTIFICATION

3. The authority citation for part 302 continues to read as follows:

Authority: 42 U.S.C. 9602, 9603, and 9604; 33 U.S.C. 1321 and 1361.

4. In § 302.4:

a. Table 302.4—List of Hazardous Substances and Reportable Quantities is amended by revising the entry for Sodium phosphate, tribasic; and

b. Appendix A to § 302.4—Sequential CAS Registry Number List of CERCLA Hazardous Substances is amended by removing the following entries: 7758294, 7785844, and 10124568.

The revision reads as follows:

§ 302.4 Designation of hazardous substances.

* * * * *

Table 302.4—List of Hazardous Substances and Reportable Quantities
Hazardous substance | CASRN | Statutory code† | RCRA waste No. | Final RQ pounds (Kg)
* * * * * * *
Sodium phosphate, tribasic | 7601-54-9 10101-89-0 10361-89-4 | 1 |  | 5000 (2270)
* * * * * * *

* * * * *

[FR Doc. 2011-22887 Filed 9-7-11; 8:45 am]

BILLING CODE 6560-50-P